DEPARTMENT OF STATE

[Public Notice: 12071]

United States Ocean Acidification Action Plan Call for Public Comment

ACTION: Notice and request for comment.

SUMMARY: The Department of State and National Oceanic and Atmospheric Administration (NOAA) will be accepting public comments on the proposed scope for the upcoming United States Ocean Acidification Action Plan (OA-AP). Drafting a national OA-AP is a commitment made by all members of the International Alliance to Combat Ocean Acidification (OA Alliance). The document will highlight our leadership in reducing carbon emissions, strengthening monitoring, research and coordination research efforts, and investing in adaptive measures.

DATES: The comment period will be open for 30 days from the publication of this notice. Guidance on how to submit comments and the proposed content for the OA-AP are below.

FOR FURTHER INFORMATION CONTACT: If you have questions about the United States OA-AP, contact Meaghan Cuddy at CuddyMR@state.gov or at (202) 340-3272.

SUPPLEMENTARY INFORMATION: The United States joined the OA Alliance at the UN Ocean Conference in June 2022. The OA Alliance is a voluntary coalition that works to build international momentum for actions that address the causes of ocean acidification (OA), increase research and monitoring efforts, and advance the resilience of coastal communities. The Department of State and NOAA co-lead for U.S. national membership in the OA Alliance and have been working with the OA Alliance secretariat to develop a plan for drafting the U.S. OA-AP.

Recently, the United States released its first-event Ocean Climate Action Plan (OCAP), which details ongoing and planned Federal ocean-based climate mitigation and adaptation activities and recommends new or enhanced ocean science and policy actions to tackle climate change. The OA-AP is designed to be a complementary component of the OCAP, addressing one of the key impacts on the ocean from anthropogenic carbon emissions.

In advance of drafting the OA-AP, the Department of State and NOAA are seeking public comment on the scope of the plan. The U.S. OA-AP will be drafted with input and feedback from the U.S. Federal Interagency Working Group on Ocean Acidification, which includes 14 U.S. Federal agencies.

The proposed scope of the document includes the following areas: (1) A brief overview of the cause of OA and its impacts; (2) A brief overview of the national-level framework of policies, programs, and actions implemented by federal agencies to reduce carbon emissions, coordinate research and monitoring efforts, and adapt to OA, along with remaining challenges; (3) a brief overview of subnational efforts to address OA, particularly by subnational U.S. members for the OA Alliance; (4) Proposed and/or planned future federal actions and goals to address ocean acidification and its root causes; and (5) New ideas for engagement at the international level to support global research, monitoring, adaptation, and carbon reduction efforts to address the impacts of OA, giving recognition to what can't be solved without international engagement.

The OA-AP is intended to be a short, high-level document that highlights the overall general direction for U.S. response to OA. It will, by design, not include all potential U.S. actions, but serve as a general roadmap to the United States' strategy to address OA through comprehensive policy across the interagency and at multiple levels of management. We are requesting input on what new directions the US should consider, within reason, in how we are addressing ocean acidification both nationally and internationally. Public comments should address: (1) The general proposed scope of the OA-AP, and/or (2) Suggestions for ambitious national-level policy, technical, scientific, or management actions to be included in the OA-AP. It is recommended that comments are limited to 500 words. Please note that public suggestions for action are not guaranteed to be included in the final OA-AP. Comments can be submitted in writing to CuddyMR@state.gov.

The OA Alliance was launched at the 2016 Our Ocean Conference by the Pacific Coast Consortium, a consortium of governments including British Columbia, Washington, Oregon and California, with the consulting firms Cascadia Policy Solutions and Ross Strategic serving as facilitators. It now includes country members as well, including Chile, Norway, France, Canada, Sweden, and the United States. The United States, as a global leader in OA research, vulnerability assessments, modeling, technology development, scientific capacity building, and adaptation, joined the OA Alliance for the purpose of supporting international collaboration to understand and combat OA. Drafting and releasing the U.S. national action plan will provide a model for other OA Alliance members seeking to integrate OA research, monitoring, and adaptation efforts across their governments. Additional information about the OA Alliance can be found at https://www.oaalliance.org/.

Authority: 22 U.S.C. 2656.

Elizabeth Kim,
Director, Office of Ocean and Polar Affairs, Department of State.

[FR Doc. 2023-10456 Filed 5-16-23; 8:45 am]

BILLING CODE 4710-09-P